DEPARTMENT OF LABOR

Employment and Training Administration

[TA-W-54,102]

Lucent Technologies, Lisle, Illinois; Notice of Termination of Investigation

Pursuant to section 221 of the Trade Act of 1974, as amended, an investigation was initiated on January 29, 2004, in response to a petition filed on behalf of workers at Lucent Technologies, Lisle, Illinois.

The Department issued a negative determination applicable to the petitioning group of workers on January 8, 2004 (TA-W-53,704). No new information was provided that would result in a reversal of the Department's previous determination. Consequently, further investigation would serve no purpose, and the investigation has been terminated.

Signed in Washington, DC, this 10th day of February, 2004.
Linda G. Poole,
Certifying Officer, Division of Trade Adjustment Assistance.

[FR Doc. E4-380 Filed 2-24-04; 8:45 am]

BILLING CODE 4510-13-P